DEPARTMENT OF COMMERCE

Bureau of Economic Analysis

15 CFR Part 806

[Docket No. 110321207-1206-01]

RIN 0691-AA78

Direct Investment Surveys: Alignment of Regulations With Current Practices

AGENCY: Bureau of Economic Analysis, Commerce.

ACTION: Final rule.

SUMMARY: This final rule amends regulations of the Bureau of Economic Analysis (BEA) related to direct investment surveys. Specifically, BEA is eliminating reporting requirements for several direct investment surveys that are no longer necessary because the information is collected on other surveys of direct investment conducted by BEA. The surveys that are eliminated from the regulations are: A survey of foreign direct investment in the U.S. seafood industry, two schedules of expenditures for property, plant, and equipment of U.S. direct investment abroad, and two industry classification questionnaires. In addition, BEA is eliminating the reporting requirements for two surveys of new foreign direct investment in the United States. BEA suspended collection of these surveys in 2009 in order to align its international survey program with available resources. BEA is also making other minor revisions to its regulations to eliminate outdated information.

DATES: This final rule will be effective August 5, 2011.

FOR FURTHER INFORMATION CONTACT: David H. Galler, Chief, Direct Investment Division (BE-50), Bureau of Economic Analysis, U.S. Department of Commerce, Washington, DC 20230; e-mail David.Galler@bea.gov or phone (202) 606-9835.

SUPPLEMENTARY INFORMATION: On April 7, 2011, BEA published a notice of proposed rulemaking to align its regulations for direct investment surveys with current practices. No comments on the proposed rule were received. Thus the proposed rule is adopted without change. This final rule amends 15 CFR Part 806 by revising §§ 806.14, 806.15, and 806.18 to remove the reporting requirements for several direct investment surveys. The surveys are:

BE-13, Initial Report on a Foreign Person's Direct or Indirect Acquisition, Establishment, or Purchase of the Operating Assets, of a U.S. Business Enterprise, Including Real Estate

BE-14, Report by a U.S. Person Who Assists or Intervenes in the Acquisition of a U.S. Business Enterprise by, or Who Enters into a Joint Venture With, a Foreign Person

BE-21, Survey of Foreign Direct Investment in U.S. Business Enterprises Engaged in the Processing, Packaging, or Wholesale Distribution of Fish or Seafoods

BE-133B, Follow-up Schedule of Expenditures for Property, Plant, and Equipment of U.S. Direct Investment Abroad

BE-133C, Schedule of Expenditures for Property, Plant, and Equipment of U.S. Direct Investment Abroad

BE-507, Industry Classification Questionnaire

BE-607, Industry Classification Questionnaire

BEA is removing the reporting requirements for the BE-13 and the BE-14 surveys which were suspended in 2009 in order to align its international survey program with available resources. The surveys had been used to collect identification information on the U.S. business being established or acquired and on the new foreign owner, information on the cost of the investment and source of funding, and limited financial and operating data for the newly established or acquired entity. The data had been used to measure the amount of new foreign direct investment in the United States and assess its impact on the U.S. economy. BEA continues to identify newly acquired or established U.S. affiliates of foreign investors and bring them into its international survey program through the BE-12, BE-15, and BE-605 surveys, which are the benchmark, annual, and quarterly surveys of foreign direct investment in the United States, respectively, but they are not separately identified in BEA's published statistics.

BEA is eliminating the regulations for the BE-21, BE-133B, BE-133C, BE-507, and BE-607 surveys since they have not been conducted in many years and are no longer necessary because the information is collected on other surveys of direct investment conducted by BEA.

In addition, BEA is making other minor revisions to its regulations to eliminate outdated information. These revisions eliminate references to outdated information regarding BE-10 survey forms and inactive OMB control numbers.

Executive Order 12866

This final rule has been determined to be not significant for purposes of E.O. 12866.

Executive Order 13132

This final rule does not contain policies with Federalism implications as that term is defined in E.O. 13132.

Paperwork Reduction Act

The Office of Management and Budget (OMB) approvals under the Paperwork Reduction Act for the seven surveys that BEA is eliminating have expired. The information collection approval for the BE-13 and BE-14 (under OMB control number 0608-0035) expired on August 31, 2009; the BE-21 approval (OMB control number 0608-0050) expired September 30, 1983; the BE-133B and BE-133C (OMB control number 0608-0024) expired December 31, 1994; the BE-507 approval (OMB control number 0608-0032) expired April 30, 1997; and the BE-607 approval (OMB control number 0608-0030) expired on May 31, 1991.

Regulatory Flexibility Act

The Chief Counsel for Regulation, Department of Commerce, has certified to the Chief Counsel for Advocacy, Small Business Administration, under the provisions of the Regulatory Flexibility Act (5 U.S.C. 605(b)), that this final rule will not have a significant economic impact on a substantial number of small entities. The factual basis for the certification was published in the proposed rule and is not repeated here. No comments were received regarding the certification or the economic impact of the rule more generally. No final regulatory flexibility analysis was prepared.

List of Subjects in 15 CFR Part 806

Economic statistics, Foreign investment in the United States, International transactions, Penalties, Reporting and recordkeeping requirements.

Dated: June 7, 2011.
J. Steven Landefeld,
Director, Bureau of Economic Analysis.

For reasons set forth in the preamble, BEA amends 15 CFR part 806 as follows:

PART 806—DIRECT INVESTMENT SURVEYS

1. The authority citation for 15 CFR part 806 continues to read as follows:

Authority: 5 U.S.C. 301; 22 U.S.C. 3101-3108; E.O. 11961 (3 CFR, 1977 Comp., p. 86), as amended by E.O. 12318 (3 CFR, 1981 Comp., p. 173), and E.O. 12518 (3 CFR, 1985 Comp., p. 348).

2. In § 806.14, paragraph (d)(3) is removed and paragraphs (f)(1), (f)(2), (g)(1) are removed and reserved. Paragraph (g)(2) is revised to read as follows:

§ 806.14 U.S. direct investment abroad.

* * * * *

(g) * * *

(2) BE-10-Benchmark Survey of U.S. Direct Investment Abroad: Section 4(b) of the Act (22 U.S.C. 3103) provides that a comprehensive benchmark survey of U.S. direct investment abroad will be conducted in 1982, 1989, and every fifth year thereafter. Exemption levels, specific requirements for, and the year of coverage of, a given BE-10 survey may be found in § 806.16.

* * * * *

§ 806.15 [Amended]

3. In § 806.15, paragraph (j)(1) is removed and reserved and paragraphs (j)(3), (j)(4), and (j)(5) are removed.

4. Section 806.18(b) is revised to read as follows:

§ 806.18 OMB control numbers assigned to the Paperwork Reduction Act.

* * * * *

(b) Display.

15 CFR section where identified and described | Current OMB control No.
806.1 through 806.17 | 0608-0004 0009 0034 0042 0049 0053

[FR Doc. 2011-16065 Filed 7-5-11; 8:45 am]

BILLING CODE 3510-06-P